INTERNATIONAL TRADE COMMISSION

[USITC SE-10-014]

Government in the Sunshine Act Meeting Notice

Agency Holding the Meeting: United States International Trade Commission.

Time and Date: May 14, 2010 at 10 a.m.

Place: Room 101, 500 E Street, SW., Washington, DC 20436, Telephone: (202) 205-2000.

Status: Open to the public.

Matters to be Considered:

1. Agenda for future meetings: none.

2. Minutes.

3. Ratification List.

4. Inv. Nos. 701-TA-475 and 731-TA-1177 (Preliminary) (Certain Aluminum Extrusions from China)—briefing and vote. (The Commission is currently scheduled to transmit its determinations to the Secretary of Commerce on or before May 17, 2010; Commissioners' opinions are currently scheduled to be transmitted to the Secretary of Commerce on or before May 24, 2010.)

5. Inv. Nos. 731-TA-770-773 and 775 (Second Review) (Stainless Steel Wire Rod from Italy, Japan, Korea, Spain, and Taiwan)—briefing and vote. (The Commission is currently scheduled to transmit its determinations and Commissioners' opinions to the Secretary of Commerce on or before May 28, 2010.)

6. Outstanding action jackets: None.

In accordance with Commission policy, subject matter listed above, not disposed of at the scheduled meeting, may be carried over to the agenda of the following meeting.

By order of the Commission:
Issued: April 26, 2010.
William R. Bishop,
Hearings and Meetings Coordinator.

[FR Doc. 2010-10801 Filed 5-4-10; 4:15 pm]

BILLING CODE 7020-02-P